CORPORATION FOR NATIONAL AND COMMUNITY SERVICE

Availability of Funds for AmeriCorps*VISTA Grants Nationwide

AGENCY: Corporation for National and Community Service.

ACTION: Notice of availability of funds.

SUMMARY: The Corporation for National and Community Service (hereinafter “the Corporation”) announces the availability of funds for fiscal year 2000, for new AmeriCorps*VISTA (Volunteers in Service to America) program grants throughout the United States, the District of Columbia, Puerto Rico, and the Virgin Islands. Project applications will be written to cover a 12-month period and grants will be awarded for a 12-month period with a renewal option. As part of this effort, the Corporation is soliciting applications from public or private non-profit organizations, including current AmeriCorps*VISTA project sponsors. Approximately 10 to 12 grants are expected to be awarded in summer 2000, subject to the availability of FY 2000 funding.

DATES: Applications must be received by 5 p.m. April 17, 2000.

ADDRESSES: Application instructions and kits are available from the Corporation for National and Community Service, AmeriCorps*VISTA, 1201 New York Avenue, NW, Washington, DC, 20525, (202) 606-5000, ext. 134; TDD (202) 565-2799, or TTY via the Federal Information Relay Service at (800) 877-8339. Five original signature copies of the application should be submitted to the Corporation for National and Community Service, 1201 New York Avenue, NW, Room 9207, Attn: Matt Dunne, Director, AmeriCorps*VISTA, Washington, DC, 20525. The Corporation will not accept applications that are submitted via facsimile or e-mail transmission. Applications submitted via overnight mail that arrive after the closing date will be accepted if they are postmarked at least two days prior to the closing date. Otherwise, late applications will not be accepted.

FOR FURTHER INFORMATION CONTACT: For further information, contact AmeriCorps*VISTA Headquarters, in Washington, DC, at (202) 606-5000, ext. 134.

SUPPLEMENTARY INFORMATION:

A. Background

AmeriCorps*VISTA is authorized under the Domestic Volunteer Service Act of 1973, as amended (Pub. L. 93-113). The statutory mandate of AmeriCorps*VISTA is “to strengthen and supplement efforts to eliminate and alleviate poverty and poverty-related problems in the United States by encouraging and enbling persons from all walks of life, all geographical areas, and all age groups * * * (to) assist in the solution of poverty and poverty-related problems, and * * * to generate the commitment of private sector resources, to encourage volunteer service at the local level, and to strengthen local agencies and organizations to carry out the purpose (of the program).” (42 U.S.C. 4951) AmeriCorps*VISTA carries out its legislative mandate by assigning individuals 18 years and older, on a full-time, year-long basis, to public and private non-profit organizations whose goals are in accord with AmeriCorps*VISTA's legislative mission. Each AmeriCorps*VISTA project must focus on the mobilization of community resources, the transference of skills to community residents, and the expansion of the capacity of community-based organizations to solve local problems. Programming should encourage permanent, long-term solutions to problems confronting low-income communities rather than short-term approaches for handling emergency needs.

AmeriCorps*VISTA project sponsors must actively elicit the support and/or participation of local public and private sector elements in order to enhance the chances of a project's success as well as to make the activities undertaken by AmeriCorps*VISTA members self-sustaining when the Corporation no longer provides resources.

B. Purpose of This Announcement

This is a nationwide effort to create and expand opportunities for low-income individuals in one of the following areas: (1) Technology assistance to community based and school based learning centers; (2) Welfare to work initiatives including job creation, micro-business enterprise, business training and assistance to public assistance recipients who are starting new businesses to work in these areas; and (3) Literacy, after-school and summer reading programs for youth.

AmeriCorps*VISTA Projects in These Initiatives will Focus On

1. National, local, state or multi-state organizations working in conjunction with local affiliates that share a vision of promoting economic self-sufficiency; or literacy, afterschool and summer reading programs for youth; or technology assistance with communities and/or schools.

2. Promotion of partnerships and collaboration between the public and private sectors including businesses, community-based organizations; faith-based organizations and other service programs;

3. Recruitment, training, and coordination of local volunteers;

4. Mobilization of resources needed to support the project; and

5. Development of a sustainable capacity in local communities.

C. Eligible Applicants

Eligible applicants for AmeriCorps*VISTA program grants supporting these initiatives must be public or private non-profit organizations: regional or national non-profit organizations, tribal or territorial governments, or organizations representing tribal populations. Current AmeriCorps*VISTA sponsoring organizations may apply without affecting the status of their existing projects.

D. Scope of Grant

Each grant budget will support a minimum of 15 AmeriCorps*VISTA members on a full-time basis for one year of service. The average Federal cost of an AmeriCorps*VISTA service year, i.e., total Federal cost divided by total number of members, will range from approximately $11,000 to $13,000 in the continental United States depending upon the location of the assignment(s). (Higher rates apply in Alaska and Hawaii.) Specific budget guidance is available in the project application kit; average allowance costs contained in the instructions should be used to prepare the budget submission.

Each grant will include funds for the grantee to pay: a monthly subsistence allowance for AmeriCorps*VISTA members that is commensurate with the cost-of-living of the assignment area and covers the cost of food, housing, utilities, and incidental expenses; an end-of-service cash stipend payment, accrued at the rate of $100 per month, for those members not selecting the AmeriCorps education award; and relocation expenses for those AmeriCorps*VISTA members who must relocate in order to serve. The grant will also include funds for member in-service training, member supervision, and member/supervisor job-related transportation.

The following costs will be covered by the Corporation: an AmeriCorps education award in the amount of $4725 for AmeriCorps*VISTA members who complete their year of service and do not elect the stipend, health support for all AmeriCorps*VISTA members; a child care allowance for eligible AmeriCorps*VISTA members; travel from home of record to training to assignment for all AmeriCorps*VISTA members as well as travel home at the end of service.

Grant applicants should demonstrate their commitment to matching the Federal contribution toward the operation of the AmeriCorps*VISTA program grant by offsetting all, or part of, the costs of member supervision, transportation, and training, as well as the basic costs of the program itself (e.g., space, telephone, etc.). This support can be achieved through cash or in-kind contributions.

Grants will be awarded on a 12-month basis with a renewal option subject to need, satisfactory performance, and the availability of Corporation resources. Publication of this announcement does not obligate the Corporation to award any specific number of grants or to obligate the entire amount of funds available, or any part thereof, for grants under the AmeriCorps*VISTA program.

E. Responsibilities of the Grantee

The applicant organization must demonstrate a strong institutional commitment of personnel, resources, training and technical expertise. Applicant organizations must develop a strong and well-coordinated multi-site or single site project rather than loosely tying together several unrelated local programs.

The applicant organization will have several crucial roles and responsibilities in operating an AmeriCorps*VISTA project. All applicant organizations must: identify local sites and assist them with preparation of Part A of the Project Application (CNS Form 1421A) (OMB Control Number 3045-0038), provide on-going monitoring, training, technical assistance, and support to local sites, assist in member recruitment, and work with sites to develop long-term sustainability plans.

After selection, the grantees will be advised by the Corporation of specific requirements related to the AmeriCorps*VISTA project, including the submission of Project Progress Reports (CNS Form 1433) (OMB Control Number 3045-0043), to the Americorps*VISTA project manager and assistance in the design and delivery of training. The Corporation State Office works with the local project affiliates to develop Part B (CNS Form 1421B) (OMB Control Number 3045-0038), of the project application and to provide in-service training and technical assistance for the members. The Corporation State Office also provides training to AmeriCorps*VISTA supervisors through periodic site visits and meetings with supervisors. A Project Progress Report is submitted by each local affiliate to the Corporation State Office on a quarterly basis.

F. Submission Requirements

To be considered for funding, applicants must submit five copies, with original signatures on items 2 and 3, of the following:

1. A one-page narrative summary description, single-spaced, single-sided in 10-12 point, of the proposed AmeriCorps*VISTA project including the name, address, telephone number, and contact person for the applicant organization as shown on the SF 424. The summary should include the major objectives and expected outcomes of the project. The summary will be used as a project abstract to provide reviewers with an introduction to the substantive parts of the application. Therefore, care should be taken to produce a summary which accurately and concisely reflects the proposal.

2. Application for Federal Assistance, SF 424, with a detailed narrative budget justification.

3. AmeriCorps*VISTA Project Application, Form 1421, Parts A and B. All project information must be contained in the space provided on the application form except where additional sheets may be submitted for the Project Work Plan and/or Member Assignment Description(s).

4. Current resume of potential AmeriCorps*VISTA supervisor(s), if available, or resume of the director of the applicant organization.

5. List of members of the Board of Directors including their professional affiliations and/or program-related activities.

6. Organizational chart illustrating the location of the AmeriCorps*VISTA project within the overall applicant organization.

7. Letters of support must be provided from outside organizations that will be collaborating in the overall project effort. Letters should reflect knowledge and endorsement of the specific objectives of the project, as well as any commitment of resources to the project if applicable.

8. For each local site that will be hosting AmeriCorps*VISTA member(s), Part A of the application must be included. No other documents pertaining to the local sites should be attached.

National Applicant Organizations Must Also Submit One Copy of the Following

1. Current Articles of Incorporation.

2. Proof of non-profit status, or an application for non-profit status and related documentation.

3. CPA certification of accounting capability.

4. A copy of most recent annual report, if available.

5. No additional attachments are to be included. Such attachments will not be read or given to reviewers.

G. Criteria for AmeriCorps*VISTA Project Selection

All of the following elements must be incorporated in the applicant's submission:

I. Program Design

a. Getting Things Done

The proposed project must:

1. Address the needs of low-income communities and otherwise comply with the provisions of the Domestic Volunteer Service Act of 1973, as amended, (42 U.S.C. 4951 et seq.) applicable to AmeriCorps*VISTA, and all applicable published regulations, guidelines, and Corporation policies.

2. Be internally consistent, i.e., the problem statement that demonstrates need, the project work plan, the AmeriCorps*VISTA member assignment description, and all other components must be related logically to each other.

3. Contain clear and measurable objectives/outcomes in the project application for a 12-month period that address the overall objectives of the initiative. Proposed projects must show how the activities of the AmeriCorps*VISTA members contribute to specific outcomes related to increased economic opportunity for low-income people. It is expected that outcome objectives will reflect the evolution of the project over the 12-month period.

4. Include activities and mechanisms that provide for the involvement of beneficiaries of the project.

5. Indicate how the proposed project complements and/or enhances activities already underway in, or planned for, the community(ies) which will be served by the project. To the extent possible, projects should seek out opportunities to collaborate with other Corporation programs, as well as with other community partners, including the business sector.

6. Describe how the number of AmeriCorps*VISTA members requested is appropriate for the project goals/objectives, and how the skills requested are appropriate for the assignment(s).

b. Strengthening Communities

The proposed project must:

1. Describe how the project will develop a sustainable capacity in the local community to effectively foster the long-term self-sufficiency of the community. Project services should provide assistance oriented towards long-term solutions.

2. Demonstrate collaboration with organizations which provide supportive services to enhance job creation and community development.

3. Be designed to generate public and/or private sector resources, and to promote local, part-time volunteer service at the community level.

4. Describe in measurable terms the anticipated self-sufficiency outcomes at the conclusion of the project, including outcomes related to the sustainability of the project activities.

c. Member Development

The proposed project must:

1. Clearly state how AmeriCorps*VISTA members will be trained, supervised, and supported to ensure the achievement of program goals and objectives as stated in the project work plan.

2. Describe how AmeriCorps*VISTA assignments are designed to utilize the full-time AmeriCorps*VISTA member's time to the maximum extent.

II. Organizational Capacity

The proposed project must:

1. Ensure that resources needed to achieve project goals and objectives are available.

2. Have the management and technical capability to implement the project successfully.

3. Have a track record or experience in dealing with the issues addressed by the proposed project.

4. Have systems for the evaluation and monitoring of project activities. Applicants must describe the methods that will be used to track progress toward the stated objectives, and the procedures that will provide the feedback needed to make adjustments and improve program quality. Projects must also be prepared to cooperate with the Corporation for National Service and its evaluation partners in all Corporation monitoring and evaluation efforts.

III. Budget/Cost-Effectiveness:

The proposed project must:

1. Include a budget that adequately supports the program design.

2. Include a budget that adheres to budget guidance provided with the application.

3. Describe how the applicant organization is committing resources necessary for program implementation.

H. Application Review

Proposal Evaluation

To ensure fairness to all applicants, the Corporation reserves the right to take action, up to and including disqualification, in the event that a proposal fails to comply with any requirements specified in this Notice.

1. Program Design (60% as described below):

The project application allows the Corporation to assess the capacity of the applicant organization to implement the project and accomplish the purpose of the initiative. The overall quality of the application will be evaluated as follows:

a. Responsiveness to Getting Things Done Criteria (25%).

b. Responsiveness to Strengthening Communities Criteria (30%).

c. Responsiveness to Member Development Criteria (5%).

2. Organizational Capacity (25%):

The applicant organization's capacity to direct, manage, support, provide technical assistance, assess the project, and promote long-term implementation of the project's efforts, must be reflected in the Project Application.

3. Budget (15%):

Applicants must prepare the budget according to information contained in Item D, Scope of Grant, above, and instructions about costs and allowance levels contained in the application kit. A detailed Budget Narrative must identify and justify each line item and cost. The Corporation will assess the cost-effectiveness of the proposed project and the project's ability to leverage significant resources from private and/or public sources.

I. Geographic Diversity

After evaluating the overall quality of the proposal and its responsiveness to the criteria noted above, the Corporation will take into consideration whether funded projects are: (1) geographically diverse, including projects in both urban and rural areas, and projects are identified throughout the five geographical regions as designated by CNS, and (2) in areas of high concentration of low-income residents, including those in empowerment zones, enterprise communities and homeownership zones.

J. Program Authority

Corporation Authority to make these grants is authorized under Title I, Part A of the Domestic Volunteer Service Act of 1973, as amended (Pub. L. 93-113).

Dated: March 16, 2000.
Matt Dunne,
Director, AmeriCorps*VISTA.

[FR Doc. 00-6987 Filed 3-20-00; 8:45 am]

BILLING CODE 6050-28-U